DEPARTMENT OF ENERGY

Federal Energy Regulatory Commission

[Docket Nos. RP04-280-003 and RP04-94-004]

Northern Natural Gas Company; Notice of SLA Refund Report

October 6, 2005.

Take notice that on October 4, 2005, Northern Natural Gas Company (Northern) tendered for filing a refund report showing refunds that were made to Northern's customers pursuant to Northern's System Levelized Account (SLA) Settlement filed on November 24, 2004 in the above-referenced dockets and approved by the Commission on February 14, 2005.

Northern further states that copies of the filing have been mailed to each of its customers and interested State commissions.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 14, 2005.

Magalie R. Salas,
Secretary.

[FR Doc. E5-5666 Filed 10-14-05; 8:45 am]

BILLING CODE 6717-01-P